DEPARTMENT OF TRANSPORTATION

Federal Aviation Administration

14 CFR Part 39

[Docket No. 2000-NM-260-AD; Amendment 39-12496; AD 2001-22-17]

RIN 2120-AA64

Airworthiness Directives; McDonnell Douglas Model DC-9-81, -9-82, -9-83, and -9-87 Series Airplanes; Model MD-88 Airplanes; and Model MD-90-30 Series Airplanes

AGENCY: Federal Aviation Administration, DOT.

ACTION: Final rule.

SUMMARY: This amendment adopts a new airworthiness directive (AD), applicable to certain McDonnell Douglas Model DC-9-81, -9-82, -9-83, and -9-87 series airplanes; Model MD-88 airplanes; and Model MD-90-30 series airplanes. This action requires repetitive inspections of the electric motors (or motors) of the auxiliary hydraulic pump for electrical resistance, continuity, mechanical rotation, and associated wiring resistance/voltage; and corrective actions, if necessary. The actions specified by this AD are intended to prevent various failures of the electric motor(s) of the auxiliary hydraulic pump and associated wiring, which could result in fire at the auxiliary hydraulic pump and consequent damage to the adjacent electrical equipment and/or structure. This action is intended to address the identified unsafe condition.

DATES: Effective December 18, 2001.

The incorporation by reference of McDonnell Douglas Alert Service Bulletin MD80-29A067, dated October 21, 1999; and McDonnell Douglas Alert Service Bulletin MD90-29A018, dated October 21, 1999; as listed in the regulations, is approved by the Director of the Federal Register as of December 18, 2001.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Albert Lam, Aerospace Engineer, Systems and Equipment Branch, ANM-130L, FAA, Los Angeles Aircraft Certification Office, 3960 Paramount Boulevard, Lakewood, California 90712-4137; telephone (526) 627-5346; fax (562) 627-5210.

SUPPLEMENTARY INFORMATION: A proposal to amend part 39 of the Federal Aviation Regulations (14 CFR part 39) to include an airworthiness directive (AD) that is applicable to certain McDonnell Douglas Model DC-9-81, -9-82, -9-83, and -9-87 series airplanes; Model MD-88 airplanes; and Model MD-90-30 series airplanes; was published in the Federal Register on December 6, 2000 (65 FR 76185). That action proposed to require repetitive inspections of the number 1 and 2 electric motors of the auxiliary hydraulic pump for electrical resistance, continuity, mechanical rotation, and associated wiring resistance/voltage; and corrective actions, if necessary.

Other Relevant Rulemaking

This AD affects McDonnell Douglas Model DC-9-81, -9-82, -9-83, and -9-87 series airplanes (i.e., MD-80 series airplanes); Model MD-88 airplanes; and Model MD-90-30 series airplanes. The FAA is planning to issue a separate AD for McDonnell Douglas Model DC-10 series airplanes, Model MD-10 series airplanes, and Model MD-11 series airplanes, to address the identified unsafe condition.

Comments

Interested persons have been afforded an opportunity to participate in the making of this amendment. Due consideration has been given to the comments received.

Request To Correct Number of Motors Specified

Two operators indicate that, on the affected twin-jet airplanes, there is only one electric motor on an auxiliary hydraulic pump. The language in the final rule has been corrected accordingly.

Request To Extend the Interval for Repetitive Inspection

An operator recommends that the repetitive interval for inspection of the electric motor(s) on an auxiliary hydraulic pump be extended from 5,000 flight hours to 5,600 flight hours, so that the inspection can be done during scheduled maintenance checks. The FAA concurs with the commenter's request to extend the compliance time for the repetitive inspections. Extending the compliance time by 600 flight hours will not adversely affect safety, and will allow the inspection to be performed at a base during regularly scheduled maintenance where special equipment and trained maintenance personnel will be available if necessary. Paragraphs (b), (c), and (d) of the final rule have been revised to specify an interval for repetitive inspection of 5,600 flight hours.

Request To Change the Inspection Method

The same operator indicates that the inspection method specified in the service bulletin could damage a serviceable electric motor in an auxiliary hydraulic pump. The operator suggests that the applicable Boeing service bulletin be revised to specify a friction check procedure that poses less risk of damage to the electric motor. While agreeing that the test in question could be improved, the FAA finds the test acceptable for the required inspection. Therefore, no change has been made to the final rule in this regard.

Request To Change Time of Initial Inspection for Certain Operators

Another operator indicates that some operators have already performed inspections of the electric motor(s) of an auxiliary hydraulic pump and its associated wiring, in accordance with the service bulletin. For these operators, the compliance period for the initial inspection should be one repetitive interval since the last inspection, rather than within 12 months after the effective date of the AD. The FAA concurs and has revised paragraph (a) of the final rule to add a new paragraph (a)(3) that provides a compliance time for the initial inspection for those operators which have already performed that inspection.

Request To Separate Requirements for Inspection of the Motor(s) and the Wiring

Finally, an operator suggests that inspection of the electric motor(s) on an auxiliary hydraulic pump and inspection of the associated wiring be addressed in separate paragraphs, so that the two inspections may be tracked individually. The operator points out that the electric motors may be removed from one pump to another and that the auxiliary hydraulic pumps may be moved from one airplane to another. Separate tracking of the required inspections decreases the risk of inadvertent non-compliance. The FAA does not concur with the commenter's suggestion. The auxiliary hydraulic pump is part of the airplane system that needs to be inspected along with its associated wiring. If a pump were to be removed and installed on another airplane, that pump would need to be re-inspected along with the associated wiring on that airplane. Therefore, no change to the final rule is necessary in this regard.

Cost Impact

There are approximately 1,292 Model DC-9-81, -9-82, -9-83, and -9-87 series airplanes; Model MD-88 airplanes; and Model MD-90-series airplanes of the affected design in the worldwide fleet. The FAA estimates that 697 airplanes of U.S. registry will be affected by this AD, that it will take approximately 1 work hour per airplane to accomplish the required inspection, and that the average labor rate is $60 per work hour. Based on these figures, the cost impact of the AD on U.S. operators is estimated to be $41,820 or $60 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-22-17 McDonnell Douglas:

Amendment 39-12496. Docket 2000-NM-260-AD.

Applicability: Model DC-9-81, -9-82, -9-83, and “9-87 series airplanes, and Model MD-88 airplanes, as listed in McDonnell Douglas Alert Service Bulletin MD80-29A067, dated October 21, 1999; and Model MD-90-30 series airplanes, as listed in McDonnell Douglas Alert Service Bulletin MD90-29A018, dated October 21, 1999; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent various failures of electric motors of the auxiliary hydraulic pump and associated wiring, which could result in fire at the auxiliary hydraulic pump and consequent damage to the adjacent electrical equipment and/or structure, accomplish the following:

Inspection

(a) Do a detailed inspection of the electric motor(s) of the auxiliary hydraulic pump for electrical resistance, continuity, mechanical rotation, and associated wiring resistance/voltage, per McDonnell Douglas Alert Service Bulletin MD80-29A067, dated October 21, 1999 (for Model DC-9-81, -9-82, -9-83, and “9-87 series airplanes, and Model MD-88 airplanes); or McDonnell Douglas Alert Service Bulletin MD90-29A018, dated October 21, 1999 (for Model MD-90-30 series airplanes); as applicable; at the applicable time specified in paragraph (a)(1), (a)(2), or (a)(3) of this AD.

(1) For airplanes that have accumulated 3,000 total flight hours or more as of the effective date of this AD: Inspect within 12 months after the effective date of this AD.

(2) For airplanes that have accumulated less than 3,000 total flight hours as of the effective date of this AD: Inspect within 12 months after accumulating 3,000 total flight hours.

(3) For airplanes on which the inspection has been accomplished prior to the effective date of this AD: Inspect within 12 months after the effective date of this AD or within 5,600 flight hours after the previous inspection, whichever occurs later.

Condition 1, No Failures: Repetitive Inspections

(b) If no failures are detected during the inspection required by paragraph (a) of this AD, repeat the inspection required by paragraph (a) of this AD every 5,600 flight hours.

Condition 2, Failure of Any Pump Motor: Replacement and Repetitive Inspections

(c) If any pump motor fails during any inspection required by paragraph (a) of this AD, before further flight, replace the failed auxiliary hydraulic pump with a serviceable pump, per McDonnell Douglas Alert Service Bulletin MD80-29A067, dated October 21, 1999 (for Model DC-9-81, -9-82, -9-83, and “9-87 series airplanes, and Model MD-88 airplanes); or McDonnell Douglas Alert Service Bulletin MD90-29A018, dated October 21, 1999 (for Model MD-90-30 series airplanes); as applicable. Repeat the inspection required by paragraph (a) of this AD every 5,600 flight hours.

Condition 3, Failure of Any Wiring: Repair and Repetitive Inspection

(d) If any wiring fails during any inspection required by paragraph (a) of this AD, before further flight, troubleshoot and repair the failed wiring, per McDonnell Douglas Alert Service Bulletin MD80-29A067, dated October 21, 1999 (for Model DC-9-81, -9-82, -9-83, and “9-87 series airplanes, and Model MD-88 airplanes); or McDonnell Douglas Alert Service Bulletin MD90-29A018, dated October 21, 1999 (for Model MD-90-30 series airplanes); as applicable. Repeat the inspection required by paragraph (a) of this AD every 5,600 flight hours.

Alternative Methods of Compliance

(e) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 2: Information concerning the existence of approved alternative methods of compliance with this AD, if any, may be obtained from the Los Angeles ACO.

Special Flight Permit

(f) Special flight permits may be issued in accordance with sections 21.197 and 21.199 of the Federal Aviation Regulations (14 CFR 21.197 and 21.199) to operate the airplane to a location where the requirements of this AD can be accomplished.

Incorporation by Reference

(g) The actions shall be done in accordance with McDonnell Douglas Alert Service Bulletin MD80-29A067, dated October 21, 1999; and McDonnell Douglas Alert Service Bulletin MD90-29A018, dated October 21, 1999. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(h) This amendment becomes effective on December 18, 2001.

Issued in Renton, Washington, on November 1, 2001.
Vi L. Lipski,
Manager, Transport Airplane Directorate, Aircraft Certification Service.

[FR Doc. 01-28023 Filed 11-9-01; 8:45 am]

BILLING CODE 4910-13-P